DEPARTMENT OF HOMELAND SECURITY

Federal Emergency Management Agency

44 CFR Part 67

Final Flood Elevation Determinations

AGENCY: Federal Emergency Management Agency, DHS.

ACTION: Final rule, correction.

SUMMARY: On May 7, 2008, FEMA published in the Federal Register a final rule that contained an erroneous table. This notice provides corrections to that table, to be used in lieu of the information published at 73 FR 25542. The table provided here represents the flooding source, location of referenced elevation, effective and modified elevation, and communities affected for the Union County and Incorporated Areas. Specifically, it addresses flooding source “Blythe Creek.”

FOR FURTHER INFORMATION CONTACT: William R. Blanton, Jr., Chief, Engineering Management Branch, Mitigation Directorate, Federal Emergency Management Agency, 500 C Street, SW., Washington, DC 20472, (202) 646-3151 or (e-mail) bill.blanton@dhs.gov.

SUPPLEMENTARY INFORMATION: The Federal Emergency Management Agency (FEMA) publishes proposed determinations of Base (1% annual-chance) Flood Elevations (BFEs) and modified BFEs for communities participating in the National Flood Insurance Program (NFIP), in accordance with section 110 of the Flood Disaster Protection Act of 1973, 42 U.S.C. 4104, and 44 CFR 67.4(a).

These final BFEs and modified BFEs, together with the floodplain management criteria required by 44 CFR 60.3, are the minimum that are required. They should not be construed to mean that the community must change any existing ordinances that are more stringent in their floodplain management requirements. The community may at any time enact stricter requirements of its own, or pursuant to policies established by other Federal, State, or regional entities. These final elevations are used to meet the floodplain management requirements of the NFIP and are also used to calculate the appropriate flood insurance premium rates for new buildings built after these elevations are made final, and for the contents in these buildings.

Correction

In the final rule published at 73 FR 25542 in the May 7, 2008 issue of the Federal Register, FEMA published a table under the authority of 44 CFR 67.4. The table, entitled “Union County, North Carolina and Incorporated Areas” addressed flooding source “Blythe Creek.” That table contained inaccurate information as to the location of referenced elevation, effective and modified elevation in feet, or communities affected for these flooding sources. In this notice, FEMA is publishing a table containing the accurate information, to address these prior errors. The information provided below should be used in lieu of that previously published.

Flooding source(s) | Location of referenced elevation** | *Elevation in feet (NGVD) +Elevation in feet (NAVD) #Depth in feet above ground Modified | Communities affected
Union County, North Carolina, and Incorporated Areas
Docket Nos.: FEMA-D-7668 and FEMA-D-7808
Blythe Creek | Approximately 0.4 mile upstream of Bud Huey Road (State Route 115) | +549 | Unincorporated Areas of Union County, Town of Waxhaw.
| At the confluence with East Fork Twelvemile Creek | +510 |

Dated: May 27, 2008.
David I. Maurstad,
Federal Insurance Administrator of the National Flood Insurance Program, Department of Homeland Security, Federal Emergency Management Agency.

[FR Doc. E8-12516 Filed 6-4-08; 8:45 am]

BILLING CODE 9110-12-P